DEPARTMENT OF DEFENSE

GENERAL SERVICES ADMINISTRATION

NATIONAL AERONAUTICS AND SPACE ADMINISTRATION

48 CFR Chapter 1

Federal Acquisition Regulation; Small Entity Compliance Guide; Federal Acquisition Circular 97-27, FAR Case 1999-607, Electronic and Information Technology Accessibility

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Public Law 104-121). It consists of a summary of the rule appearing in Federal Acquisition Circular (FAC) 97-27 which amends the FAR. A regulatory flexibility analysis has been prepared in accordance with 5 U.S.C. 604. Interested parties may obtain further information regarding this rule by referring to FAC 97-27 which precedes this document. This document is also available via the Internet at http://www.arnet.gov/far.

FOR FURTHER INFORMATION CONTACT: Laurie Duarte, FAR Secretariat, (202) 501-4225. For clarification of content, contact Ms. Linda Nelson, Procurement Analyst, General Services Administration, at (202) 501-1900.

Electronic and Information Technology Accessibility (FAR Case 1999-607)

The final rule amends the FAR to implement Section 508 of the Rehabilitation Act of 1973. Subsection 508(a)(3) requires the FAR to be revised to incorporate standards developed by the Architectural and Transportation Barriers Compliance Board (also referred to as the Access Board). The final rule amends the FAR by—

• Including the definition of the term “electronic and information technology”, a term created by the statute;

• Incorporating the EIT Standards in acquisition planning, market research, and when describing agency needs; and

• Adding a new Subpart 39.2.

The requiring official must identify which standards would apply to the procurement, using the Access Board's EIT Accessibility Standards at 36 CFR part 1194. Then the requiring official must perform market research to determine the availability of compliant products and services; vendor websites and the GSA section 508 website would be helpful here. The requiring official must then identify which standards, if any, would not apply in this procurement because of, e.g., nonavailability (39.203) or undue burden (39.204(e)). Technical specifications and minimum requirements would be developed based on the market research results and agency needs. This information would be submitted with the purchase request. The solicitation would then be drafted, or task order or delivery order would be placed. Proposal evaluation may yield additional information that could require reconsideration of the need for an exception.

Exception determinations are not required for award of underlying indefinite-quantity contracts, except for requirements that are to be satisfied by initial award. Accordingly, indefinite-quantity contracts may include noncompliant items; however, any task or delivery order issued for noncompliant items must meet an applicable exception.

Dated: April 20, 2001.
Al Matera,
Director, Federal Acquisition Policy Division.

[FR Doc. 01-10409 Filed 4-24-01; 8:45 am]

BILLING CODE 6820-EP-P